DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 5, 2004.

Interested persons are invited to submit written comments regarding the subject matter of the investigations to the Director, Division of Trade Adjustment Assistance, at the address shown below, not later than April 5, 2004.

The petitions filed in this case are available for inspection at the Office of the Director, Division of Trade Adjustment Assistance, Employment and Training Administration, U.S. Department of Labor, Room C-5311, 200 Constitution Avenue, NW., Washington, DC 20210.

Signed at Washington, DC this 18th day of March, 2004.
Timothy Sullivan,
Director, Division of Trade Adjustment Assistance.

Appendix
[Petitions instituted between 02/17/2004 and 02/20/2004]
TA-W | Subject firm (petitioners) | Location | Date of institution | Date of petition
54,263 | Olney Wallcovering (Wkrs) | Spartanburg, SC | 02/17/2004 | 02/11/2004
54,264 | Comeaux Marketing (Wkrs) | St. Amant, LA | 02/17/2004 | 02/09/2004
54,265 | Rainbow Displays, Inc. (Wkrs) | Endicott, NY | 02/17/2004 | 01/23/2004
54,266 | D.A. Stuart Co. (MI) | Ecorse, MI | 02/17/2004 | 02/05/2004
54,267 | Lucent Technologies (GA) | Alpharetta, GA | 02/17/2004 | 02/10/2004
54,268 | Flextronics (Wkrs) | San Diego, CA | 02/17/2004 | 02/12/2004
54,269 | Accuride Corp. (Wkrs) | Henderson, KY | 02/17/2004 | 02/12/2004
54,270 | Tellabs (Wkrs) | Naperville, IL | 02/17/2004 | 02/12/2004
54,271 | Budget Meter (WI) | Milwaukee, WI | 02/17/2004 | 02/12/2004
54,272 | Tweave, Inc. (Wkrs) | Norton, MA | 02/17/2004 | 02/09/2004
54,273 | K.S. Bearings (UAW) | Greensburg, IN | 02/17/2004 | 02/12/2004
54,274 | Boeing (SPEEA) | Witchita, KS | 02/17/2004 | 02/12/2004
54,275 | FMC Measurement/Smith Meter (UAW) | Erie, PA | 02/17/2004 | 02/13/2004
54,276 | Cardinal Brands (PSPP) | Topeka, KS | 02/17/2004 | 02/13/2004
54,277 | Summit Sportswear/S and R Products (CA) | Santa Ana, CA | 02/17/2004 | 02/13/2004
54,278 | Cochrane Furniture (Wkrs) | Lincolnton, NC | 02/17/2004 | 02/06/2004
54,279 | Rockbestos Suprenant Cable Corp. (CWA) | Clinton, MA | 02/17/2004 | 02/13/2004
54,280 | Baptist Regional Medical Center (Wkrs) | Corbin, KY | 02/17/2004 | 02/02/2004
54,281 | Chami Design (Comp) | Tacoma, WA | 02/17/2004 | 02/12/2004
54,282 | Unifrax Corporation (Comp) | Niagara Falls, NY | 02/18/2004 | 02/12/2004
54,283 | Encompass Group, LLC (Comp) | Houston, TX | 02/18/2004 | 02/13/2004
54,284 | Pechiney Plastic Packaging, Inc. (NJ) | Washington, NJ | 02/18/2004 | 02/05/2004
54,285 | Asarco, Inc. (Wkrs) | Salt Lake City, UT | 02/18/2004 | 02/17/2004
54,286 | Surratt Hosiery Mills (Comp | Denton, NC | 02/18/2004 | 02/12/2004
54,287 | Masonite Corporation (Comp) | Danville, VA | 02/18/2004 | 02/12/2004
54,288 | Hedstrom Company (Wkrs) | Ashland, OH | 02/18/2004 | 02/10/2004
54,289 | Regal Boloit Corporation (Wkrs) | Sankville, WI | 02/18/2004 | 02/17/2004
54,290 | Rubbermaid Cleaning Products (Comp) | Greenville, NC | 02/18/2004 | 02/16/2004
54,291 | Gateway Mfg., Inc. (Comp) | Hillsdale, MI | 02/18/2004 | 02/05/2004
54,292 | Hamilton Collection (The) (Comp) | Jacksonville, FL | 02/18/2004 | 01/27/2004
54,293 | Dexter Shoe Co. (ME) | Dexter, ME | 02/18/2004 | 02/05/2004
54,294 | A and M Tool Molding Division (Comp) | Arden, NC | 02/18/2004 | 02/12/2004
54,295 | Sure Fit, Inc. (Comp) | Allentown, PA | 02/18/2004 | 02/16/2004
54,296 | Sprint (Wkrs) | Plymouth, IN | 02/18/2004 | 02/18/2004
54,297 | Johnson Controls, Inc. (UAW) | Dayton, NJ | 02/18/2004 | 02/17/2004
54,298 | Accenture c/o Dupont (Wkrs) | Orange, TX | 02/18/2004 | 02/10/2004
54,299 | H.I. Apparel Cutting, Inc. (Comp) | Clinton, NC | 02/18/2004 | 02/13/2004
54,300 | Hewlett Packard (Wkrs) | Houston, TX | 02/18/2004 | 02/12/2004
54,301 | Supreme Elastic Corp. (Comp) | Hickory, NC | 02/19/2004 | 02/18/2004
54,302 | Cresent, Inc. (Comp) | Niota, TN | 02/19/2004 | 01/23/2004
54,303 | Duraw Mfg., Inc. (Comp) | McComb, MS | 02/19/2004 | 02/17/2004
54,304 | FE Wood and Sons, Inc. (Comp) | E. Baldwin, ME | 02/19/2004 | 01/28/2004
54,305 | Loger Industries (Wkrs) | Lake City, PA | 02/19/2004 | 02/13/2004
54,306 | Crowntex, Inc. (Wkrs) | Wrightsville, GA | 02/19/2004 | 02/10/2004
54,307 | Solectron (Ca) | Cypress, CA | 02/19/2004 | 02/18/2004
54,308 | Invensys (Wkrs) | Loves Park, IL | 02/19/2004 | 02/11/2004
54,309 | Big Bear Plus #254 (Wkrs) | Portsmouth, OH | 02/19/2004 | 02/07/2004
54,310 | Intermet Havana Foundry (Wkrs) | Havana, IL | 02/19/2004 | 02/11/2004
54,311 | Interdean Intercoms (Wkrs) | Elmsford, NY | 02/19/2004 | 02/12/2004
54,312 | Randolph Dimension Corp. (Comp) | Randolph, NY | 02/19/2004 | 02/11/2004
54,313 | Pinnacle Frames and Accents, Inc. (Comp) | Piggott, AR | 02/19/2004 | 02/10/2004
54,314 | Production Department (Comp) | Confluence, PA | 02/19/2004 | 02/11/2004
54,315 | Universal Stainless, Inc. (Wkrs) | Pineville, NC | 02/19/2004 | 02/10/2004
54,316 | Optoplast USA Inc. (Wkrs) | Pittsburgh, PA | 02/20/2004 | 02/17/2004
54,317 | Anacom Medteck (Comp.) | Anaheim, CA | 02/20/2004 | 02/19/2004
54,318 | Sanmina-SCI (Comp.) | Richmond, KY | 02/20/2004 | 02/19/2004
54,319 | Eighth Floor Promotions (Wkrs) | Bloomington, MN | 02/20/2004 | 02/13/2004
54,320 | Hubbell Power Systems Inc. (Wkrs) | Leeds, AL | 02/20/2004 | 02/16/2004
54,321 | Shorewood Packaging Corp. (State) | Clifton, NJ | 02/20/2004 | 02/19/2004
54,322 | Dielectric Communications (State) | Raymond, ME | 02/20/2004 | 01/20/2004

Appendix
[Petitions instituted between 02/23/2004 and 02/27/2004]
TA-W | Subject firm (petitioners) | Location | Date of institution | Date of petition
54,323 | Andover Wood (Wkrs) | Andover, ME | 02/23/2004 | 02/09/2004
54,324 | National Lamination (Comp) | Desplaines, IL | 02/23/2004 | 02/13/2004
54,325 | SK Williams (BMP) | Wauwatosa, WI | 02/23/2004 | 02/18/2004
54,326 | Knowles Electronics (Comp) | Elgin, IL | 02/23/2004 | 02/20/2004
54,327 | Lucent Technologies, Inc. (Wkrs) | Downers Grove, IL | 02/23/2004 | 02/20/2004
54,328 | Lucent Technologies (NC) | Charlotte, NC | 02/23/2004 | 02/19/2004
54,329 | Diefendorf Gear, LLC (Wkrs) | Syracuse, NY | 02/23/2004 | 02/11/2004
54,330 | Allied Holdings, Inc. (Wkrs) | Decatur, GA | 02/23/2004 | 02/04/2004
54,331 | Littelfuse, Inc. (Wkrs) | Centralia, IL | 02/23/2004 | 02/10/2004
54,332 | Springs Industries (Comp) | Lyman, SC | 02/23/2004 | 02/12/2004
54,333 | Louisville Ladder Group (Comp) | Smyrna, TN | 02/23/2004 | 02/10/2004
54,334 | Simonds International Corp. (Wkrs) | Newcomerstown, OH | 02/23/2004 | 02/13/2004
54,335 | Wellman, Inc. (Comp) | Charlotte, NC | 02/23/2004 | 02/10/2004
54,336 | Resolite (Wkrs) | Zelienople, PA | 02/23/2004 | 02/20/2004
54,337 | Owens Brockway (CA) | Antioch, CA | 02/23/2004 | 01/22/2004
54,338 | Loftin Black Furniture (Comp) | Thomasville, NC | 02/24/2004 | 02/23/2004
54,339 | Active Wear, Inc. (Comp) | Martinsville, VA | 02/24/2004 | 02/17/2004
54,340 | Norgren Division IM1 (CO) | Littleton, CO | 02/24/2004 | 02/19/2004
54,341 | Textron Fastening Systems (UAW) | rockford, IL | 02/24/2004 | 02/23/2004
54,342 | Aluminum Foundries (Wkrs) | Winchester, IN | 02/24/2004 | 02/18/2004
54,343 | Kenneth Cole (NJ) | Secaucus, NJ | 02/24/2004 | 01/30/2004
54,344 | Screw Machine Specialities, Inc. (Wkrs) | Grand Haven, MI | 02/24/2004 | 02/20/2004
54,345 | NED Corporation (Wkrs) | Worchester, MA | 02/24/2004 | 02/12/2004
54,346 | Meadwestvaco (ME) | Rangeley, ME | 02/24/2004 | 02/09/2004
54,347 | Gold Star Coatings (Comp) | Arden, NC | 02/24/2004 | 02/11/2004
54,348 | Werner Co. (Comp) | Anniston, AL | 02/24/2004 | 02/18/2004
54,349 | Famillie Printing Co., Inc. (Wkrs) | Spartanburg, SC | 02/24/2004 | 02/17/2004
54,350 | Oracle (Wkrs) | Englewood, CO | 02/24/2004 | 02/17/2004
54,351 | I/N Kote and I/N Tek (Wkrs) | New Carlisle, IN | 02/24/2004 | 02/23/2004
54,352 | Presto Products (Comp) | Weyauwega, WI | 02/24/2004 | 02/20/2004
54,353 | Gateway Sportswear (Comp) | Confluence, PA | 02/25/2004 | 02/11/2004
54,354 | Arvesta Corporation (USWA) | Perry, OH | 02/25/2004 | 02/17/2004
54,355 | Falls Mold and Die, Inc. (Comp) | Stow, OH | 02/25/2004 | 02/03/2004
54,356 | E-Z-EM Caribe, Inc. (Wkrs) | San Lorenzo, PR | 02/25/2004 | 02/05/2004
54,357 | Solutia d/b/a Astaris (Comp) | Trenton, MI | 02/25/2004 | 01/26/2004
54,358 | Aero-Motive (Wkrs) | Kalamazoo, MI | 02/25/2004 | 02/17/2004
54,359 | Koo's Mfg. (Wkrs) | Southgate, CA | 02/26/2004 | 02/19/2004
54,360 | ITW Packaging System (IAM) | New Britain, CT | 02/26/2004 | 02/23/2004
54,361 | Kimtech (IAM) | Neenah, WI | 02/26/2004 | 02/25/2004
54,362 | Bose Corp. (Comp) | Blythewood, SC | 02/26/2004 | 02/24/2004
54,363 | Tru-Mold Shoes, Inc. (Wkrs) | Buffalo, NY | 02/26/2004 | 02/20/2004
54,364 | Sandlapper Fabrics (CT) | Danbury, CT | 02/26/2004 | 02/25/2004
54,365 | Greenpoint Bank (Wkrs) | Lake Success, NY | 02/26/2004 | 02/18/2004
54,366 | Summitville Tiles, Inc. (Comp) | Summitville, OH | 02/26/2004 | 02/19/2004
54,367 | Holophane/Acuity (Wkrs) | Newark, OH | 02/26/2004 | 02/19/2004
54,368 | Multi-Form Inc. (Comp) | Bristol, CT | 02/26/2004 | 02/18/2004
54,369 | SEH America (Comp) | Vancouver, WA | 02/26/2004 | 01/27/2004
54,370 | Parker Hosiery (Wkrs) | Ft. Payne, AL | 02/27/2004 | 02/09/2004
54,371 | Boston Gear Colfax (Wkrs) | Louisburg, NC | 02/27/2004 | 02/20/2004
54,372 | Watts Regulator-Webster Valve Division (NH) | Franklin, NH | 02/27/2004 | 02/24/2004
54,373 | Eagle Tool Company (Comp) | Dyersville, IA | 02/27/2004 | 02/25/2004
54,374 | B and B Marketing (Comp) | Ft. Payne, AL | 02/27/2004 | 02/23/2004
54,375 | International Paper (Wkrs) | Georgetown, SC | 02/27/2004 | 02/26/2004
54,376 | Lisbon Textile Prints, Inc. (Comp) | Jewett City, CT | 02/27/2004 | 02/05/2004
54,377 | Russell Corporation (Wkrs) | Alexandre City, AL | 02/27/2004 | 02/02/2004
54,378 | Roaring and Cumberland Mfg. (Wkrs) | Sparta, TN | 02/27/2004 | 02/24/2004
54,379 | Carolina Rubber Roll (Wkrs) | Greenville, SC | 02/27/2004 | 02/20/2004
54,380 | Senior Flexonics Pathway Division (Comp) | Oak Ridge, TN | 02/27/2004 | 02/26/2004

[FR Doc. 04-6553 Filed 3-23-04; 8:45 am]

BILLING CODE 4510-30-M